DEPARTMENT OF EDUCATION

Race to the Top Fund

Catalog of Federal Domestic Assistance (CFDA) Number: 84.395C

AGENCY: Department of Education.

ACTION: Notice of three additional public meetings and request for input from technical experts pertaining to a possible Race to the Top Assessment program, and provide technical assistance to States for the development and implementation of high-quality assessments based on common standards.

SUMMARY: On October 23, 2009, the Department announced in the Federal Register (74 FR 54795) a series of public meetings to be held throughout November and December 2009 to inform its work on a potential Assessment Program within the Race to the Top Fund and to provide technical assistance to States. This notice announces three additional public meetings intended to address questions outlined in the October notice that have not been fully covered, and new topic areas and questions that have emerged based on public and expert input. As announced in the October notice, by March 2010, the Secretary of Education (Secretary) intends to announce a competition for a program that would support one or more consortia of States that are working toward jointly developing and implementing common, high-quality assessments aligned with a consortium's common set of kindergarten-through-grade-12 (K-12) standards that are internationally benchmarked and that build toward college and career readiness by the time of high school completion. To inform the design of this program and the development of a notice inviting applications that establishes the requirements for this competition, and to provide technical assistance to States, the Secretary continues to seek input from States, technical experts, and members of the public through public meetings and written submissions. Following the public meetings and review of the written submissions, the Department intends to publish a notice inviting applications for such a competition.

DATES: Public meetings will be held on the dates and at the locations specified later in this notice. Written submissions must be received by the Department by 5:00 p.m., Eastern time, on Wednesday, January 20, 2010.

ADDRESSES: For those submitting written input, we encourage submissions by e-mail using the following address: racetothetop.assessmentinput@ed.gov. If you prefer to send your input by mail, address it to Office of Elementary and Secondary Education, Attention: Race to the Top Assessment Program—Public Input Meetings, U.S. Department of Education, 400 Maryland Avenue, SW., Room 3W339, Washington, DC 20202.

FOR FURTHER INFORMATION CONTACT: U.S. Department of Education, 400 Maryland Avenue, SW., Room 3W339, Washington, DC 20202. Telephone: 202-453-7246 or by e-mail: racetothetop.assessment@ed.gov.

If you use a telecommunications device for the deaf (TDD), call the Federal Relay Service (FRS), toll free, at 1-800-877-8339.

SUPPLEMENTARY INFORMATION: Background: The Race to the Top Fund, authorized under the American Recovery and Reinvestment Act of 2009 (ARRA), Public Law 111-5, provides $4.35 billion for competitive grants to States to encourage and reward States that are creating the conditions for education innovation and reform; implementing ambitious plans in the four education reform areas described in the ARRA; and achieving significant improvement in student outcomes, including making substantial gains in student achievement, closing achievement gaps, improving high school graduation rates, and ensuring student preparation for success in college and careers.

The Department is considering implementing two separate programs under the Race to the Top Fund. The first, a general program, was announced in November through a notice inviting applications and notice of final priorities, requirements, definitions, and selection criteria published in the Federal Register on November 18, 2009 (74 FR 59688). Under this general program, the Department will award approximately $4 billion to State applicants that have demonstrated that they have created certain conditions for education innovation and reform; achieved significant improvement in student outcomes, including making substantial gains in student achievement, closing achievement gaps, improving high school graduation rates, and ensuring student preparation for success in college and careers; and proposed to develop and implement comprehensive reform strategies that are integrated across the four ARRA education reform areas.

Through this notice, we are seeking additional input on a second proposed program (Assessment Program), which would provide approximately $350 million in grants to consortia of States for the development of common, high-quality assessments aligned with an applicant consortium's common set of K-12 standards that are internationally benchmarked and that build toward college and career readiness by the time of high school completion.

At a later date, guided by the input from the public meetings and written submissions described in this notice, and in conjunction with the input received in response to the October 23, 2009 notice, the Secretary intends to issue a notice inviting applications for a competition for this second program that would set forth the requirements and criteria for the submission of applications. Should the Secretary decide not to conduct the Race to the Top Assessment Program, the $350 million designated for this program will revert to fund additional grants under the general Race to the Top Program.

Because requirements for an assessment program are highly technical, the Department has been soliciting input through public meetings to inform the design and development of this program, including the notice inviting applications, and to provide technical assistance to States. Based on the input received in the three public meetings and written comments received thus far, the Department will hold a second series of public meetings to address issues articulated in this notice. At these meetings invited experts and members of the public will have the opportunity to provide input, including written input. Should we decide to implement this Assessment Program by holding a competition, we do not intend to conduct notice and comment rulemaking. Section 437(d)(1) of the General Education Provisions Act, 20 U.S.C. 1232(d)(1), allows the Department to waive rulemaking for the first grant competition under a new or substantially revised program authority. This would be the first competition for an Assessment Program under the Race to the Top Fund.

The three meetings announced in the previous notice and held in November and December have informed the Department's thinking on the design and development of the potential competition and on the notice inviting applications. In addition, these meetings have provided an important opportunity for the Department and States to learn more about the design, development, and implementation of high-quality assessments. The Department intends to extend that learning to a new set of questions in the next set of meetings announced in this notice. As with the previous meetings, the Department expects that States, in particular, will acquire critical knowledge about best practices in assessments, especially on the development and management of assessment consortia, and then be able to employ that knowledge in developing their applications and in designing high-quality assessments.

Details of Public Meetings

Structure of Public Meetings:

The Department anticipates that each meeting will have two components as follows:

(1) Input from invited panels of experts and stakeholders:

○ Each meeting will have an invited set of panelists who will have a set amount of time to respond individually to the questions in this notice.

○ The Department representatives will then ask questions of individual panelists and facilitate cross-panelist discussion.

(2) Open opportunity to share input:

○ Each meeting will have 30 to 60 minutes for interested members of the public, who have registered to speak, to respond to the questions in this notice.

○ Each individual scheduled to speak will have 5 minutes to provide oral input.

○ Written submissions will also be accepted as described in the Submission of Written Input section.

Each meeting will focus on a particular topic as indicated in the next section. The Department will share any updates, including posting additional questions, online at http://www.ed.gov/programs/racetothetop-assessment/index.html.

Topic Areas, Dates, Times, Locations, and Registration Information:

The public meetings will occur on the following dates at the times and locations indicated below.

• Topic Area: Project and Consortium Management

○ Wednesday, January 13; in Washington, DC; at the United States Department of Education's Potomac Center Plaza at 550 12th Street, SW., 10th floor conference room, Washington, DC; from 10:00 a.m. to 5:00 p.m.

• Topic Area: Procurement

○ Thursday, January 14; in Washington, DC; at the United States Department of Education's Potomac Center Plaza at 550 12th Street, SW., 10th floor conference room, Washington, DC; from 9:00 a.m. to 12:30 p.m.

• Topic Area: General and Technical Assessment

○ Wednesday, January 20; in Washington, DC; at a Washington, DC metro area location to be determined and announced via the Department's Web site; from 10:00 a.m. to 5:00 p.m.

Attendance: If you are interested in attending an event, you must register by first sending an e-mail to racetothetop.assessment@ed.gov. The subject line of your e-mail must read, “Request form.” A registration form will be automatically sent to you. You must complete this form electronically and return it by e-mail. Detailed instructions are included in the form. Registrations will be processed on a first-come, first-served basis with space reserved for State participants. Individuals will be notified by e-mail when their registration is confirmed.

Providing input: If you are interested in speaking during the open input portion of the meeting, you must register by first sending an e-mail to racetothetop.assessment@ed.gov. The subject line of your e-mail must read, “Speaker request form.” A registration form will be automatically sent to you. You must complete this form electronically and return it by e-mail. Detailed instructions are included in the form. Because the number of public speaking slots is limited, individuals and organizations may register to speak at only one of the three meetings. Requests to speak will be processed on a first-come, first-served basis. Confirmed speakers will be notified by the Department by e-mail, and will be asked to bring two hard copies of their input to the meeting. People who are unable to attend a meeting in person or who do not register early enough to speak during the meeting are encouraged to submit written input.

Assistance to Individuals With Disabilities at the Public Meetings

The meeting sites will be accessible to individuals with disabilities and sign language interpreters will be available. If you need an auxiliary aid or service (e.g., interpreting service such as sign language, oral, cued speech, or tactile interpreter; assisted listening device; or materials in alternate format) to participate in the meeting, notify the Department using the contact information provided in the FOR FURTHER INFORMATION CONTACT section of this document at least two weeks before the scheduled meeting date. Although we will attempt to meet any requests we receive after this date, we may not be able to make available the requested auxiliary aid or service because of insufficient time.

Submission of Written Input:

All interested parties, including those who cannot attend a meeting or from whom we do not have time to hear at a meeting, may submit written input in response to this notice.

Written input will be accepted at the meeting site or via e-mail and mail at the addresses listed in the ADDRESSES section of this notice. Written input must be submitted by the date listed in the DATES section.

When submitting input at the meetings, we request that you submit two written copies. Please include your name, organization (if applicable), and contact information.

Both at the meetings and in your written submission, we encourage you to be as specific as possible. To ensure that your input is fully considered, we urge you to identify clearly the specific question, purpose, and characteristic that each of your suggestions addresses and to arrange your submission in the order of the questions listed in this notice. Please also include a description of your involvement, if any, in statewide assessment practices.

Sharing Input Publicly:

The Department is committed to gathering and sharing publicly the input from the meetings and written submissions. Each meeting will be transcribed. All transcripts will be available for viewing at http://www.ed.gov/programs/racetothetop-assessment/index.html. All written input received will be available for viewing via this Web site as well.

Assessment Program Design and Questions

As described in the October 23 notice, we intend for the Assessment Program to support consortia of States working toward jointly developing and implementing a next generation of common summative assessments that are aligned with a common set of kindergarten-through-grade-12 internationally benchmarked, college- and career-ready standards that model and support effective teaching and student learning. Such summative assessments would allow students, including students with disabilities and English language learners, to demonstrate at each grade level tested their mastery of knowledge and skills and the extent to which each student is on track to college- and career-readiness by the time of high school graduation.

In designing the requirements for this program, the Secretary is particularly interested in innovative and effective approaches to assessment that will assist States in creating powerful and useful systems of assessment that meet these requirements.

In the following paragraphs, we have provided a framework that outlines the characteristics we believe should be required or encouraged in assessment systems supported by a grant under this proposed program. We then list the specific questions on which we seek input, taking into account this framework.

It is important to note that this proposed program, the public meetings, and the framework below would focus on the design and quality of assessment systems and not on accountability policies, such as those described in section 1116 of the Elementary and Secondary Education Action (ESEA). Given the pending reauthorization of the ESEA, we intend that the Assessment Program would support the development of the best possible assessments that could be not only appropriately used by States under the current ESEA assessment and accountability requirements, but could also serve additional purposes as outlined later in this notice.

Framework:

Design of Assessment Systems—General Requirements

The Department is particularly interested in supporting the development of summative assessments that measure—

• Individual student achievement as measured against standards that build toward college- and career-readiness by the time of high school completion;

• Individual student growth (that is, the change in student achievement data for an individual student between two or more points in time); and

• The extent to which each individual student is on track, at each grade level tested, toward college- or career-readiness by the time of high school completion.

At a minimum, we would expect that the common assessments would measure each of these elements in the subject areas of reading/language arts and mathematics, would provide information for each student annually in grades 3 through 8, and would provide information at the high school level about each student's college- and/or career-readiness. The assessments would not need to be limited to a single end-of-year assessment but could include multiple summative components administered at different points during the school year. Moreover, the assessments might be viewed as replacing rather than adding to the assessments currently in use in States participating in the consortia.

Information gathered from the assessments should be useable in informing—

• Teaching, learning, and program improvement;

• Determinations of school effectiveness;

• Determinations of principal and teacher effectiveness in order to inform evaluation and the provision of support to teachers and principals; and

• Determinations of individual student college- and career-readiness, such as determinations made for high school exit decisions, college course placement in credit-bearing classes, or college entrance.

Design of Assessment Systems—Required Characteristics

With respect to the design of the assessment system, the Department would likely require that the assessments, at a minimum, meet the following characteristics:

(1) Reflect and support good instructional practice by eliciting complex responses and demonstrations of knowledge and skills consistent with the goal of being college and career ready by the time of high school completion;

(2) Be accessible to the broadest possible range of students, with appropriate accommodations for students with disabilities and English language learners;

(3) Contain varied and unpredictable item types and content sampling, so as not to create incentives for inappropriate test preparation and curriculum narrowing;

(4) Produce results that can be aggregated at the classroom, school, local educational agency (LEA), and State levels;

(5) Produce reports that are relevant, actionable, timely, accurate, and displayed in ways that are clear and understandable for target audiences, including teachers, students and their families, schools, LEAs, communities, States, institutions of higher education, policymakers, researchers, and others;

(6) Make effective and appropriate use of technology;

(7) Be valid, reliable, and fair;

(8) Be appropriately secure for the intended purposes;

(9) Have the fastest possible turnaround time on scoring, without forcing the use of lower-quality assessment items; and

(10) Be able to be maintained, administered, and scored at a cost that is sustainable over time.

Design of Assessment Systems—Desired Characteristics

In addition, the Department is particularly interested in assessment systems in which—

(1) Teachers are involved in scoring of constructed responses and performance tasks in order to measure effectively students' mastery of higher-order content and skills and to build teacher expertise and understanding of performance expectations;

(2) The assessment approach can be easily adapted to include summative assessments in other content areas (e.g., science, social studies) in the future;

(3) The technology “platform” created for summative assessments supports assessment and item development, administration, scoring, and reporting that increases the quality and cost-effectiveness of assessments; and

(4) The technology infrastructure created for summative assessments can be easily adapted to support practitioners and professionals in the development, administration, and/or scoring of high-quality interim assessments.¹

¹ Consistent with section 14006(c) of ARRA, the October 23, 2009 Federal Register notice announcing the initial public meetings for the assessment competition stated that at least 50 percent of any award under this competition would have to be provided to local educational agencies through sub-grants (74 FR 54796). However, section 310(2) of the Department of Education Appropriations Act, 2010 amended ARRA to make this requirement not apply to “grants made by the Secretary to consortia of States to develop academic assessments that are aligned with academic standards.” Therefore, the requirement that 50 percent of the funds must be sub-granted to LEAs does not apply to this assessment competition.

Additional Questions for Input:

The specific additional questions on which the Department seeks input are listed below. All input, including expert presentations and discussions, public input, and written submissions, should focus primarily on responding to these questions in the context of the framework outlined above, and may also provide input on the framework itself. We encourage you to make your input as specific as possible, to provide evidence to support your proposals and answers, and to present the information in a context and format that will be helpful to States implementing high-quality assessments. These additional questions focus on the topics of project and consortium management, procurement, and general and technical assessment matters.

To ensure that your input is fully considered in the development of the notice inviting applications, we urge you to identify clearly the specific question, purpose, or characteristic that you are addressing, and to arrange your input in the order of the questions as they are listed in this notice.

Project and Consortium Management Questions

1. How would you recommend organizing a consortium to achieve success in developing and implementing the proposed assessment system?

a. What governance model do you suggest and why? What leadership model do you suggest and why?

b. What recommendations do you have on the decision-making process within a consortium?

c. What recommendations do you have for States that are organizing consortia regarding:

• how to differentiate roles, responsibilities, and workloads within a consortium?

• roles for third parties (e.g., conveners, project managers, assessment developers/partners, intermediaries)?

d. What advice do you have on the characteristics that all consortium members must have in common in order for a consortium to be successful, and what characteristics can vary across member States, e.g., philosophical approaches to assessment, standards, scope and sequence, etc.?

2. What would you recommend that a consortium be asked to demonstrate in its application to show that it has the capacity, structure, and potential to implement its proposed plan? What are the critical success indicators six, 12 and 18 months into the life of a consortium? What signals are predictive of ultimate success or failure?

3. What could go wrong in the development and management of a consortium and what can States do to mitigate these factors up front? In what ways could the Department structure the competition to help mitigate these factors?

Procurement Questions

1. How do differences in State procurement rules affect how you would design and manage a consortium? How will State procurement regulations, processes and time frames likely affect how a consortium carries out the development, piloting, and implementation of common assessments? (You may use examples from outside the education sector, if relevant.)

2. States have expressed interest in acquiring information about, and input and ideas from, potential assessment partners/vendors in advance of completing their applications. What actions, if any, would you advise the Department to take to help facilitate this?

3. States expressed a desire to run competitive (as opposed to sole-sourced) processes for selecting partners/vendors. How would you advise the Department to structure the application to enable States to do so? What other ideas would you offer in designing a process that is flexible enough to accommodate other challenges that States might encounter over time (e.g., challenges related to partner/vendor selection or contract change management)?

General and Technical Assessment Questions

The Department continues to synthesize input received in response to the October 23 notice of public input meetings. Approximately two weeks in advance of the January 20 meeting on this topic, the Department intends to publish via our website (http://www.ed.gov/programs/racetothetop-assessment/resources.html) a list of general and technical assessment questions on which further input is requested.

Accessible Format: Individuals with disabilities can obtain this document in an accessible format (e.g., braille, large print, audiotape, or computer diskette) on request to the program contact person listed under FOR FURTHER INFORMATION CONTACT.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: December 24, 2009.
Arne Duncan,
Secretary of Education.

[FR Doc. E9-30975 Filed 12-28-09; 11:15 am]

BILLING CODE 4000-01-P